NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from September 30 to October 13, 2005. The last biweekly notice was published on October 11, 2005 (70 FR 59082).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(I)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Nuclear Connecticut Inc., et al., Docket No. 50-423, Millstone Power Station, Unit No. 3, New London County, Connecticut

Date of amendment request: September 13, 2005.

Description of amendment request: The amendment would reduce the temperature at which shutdown and control rod cluster control assemblies (RCCA) drop testing is done from greater than or equal to 551 °Fahrenheit (F) to greater than or equal to 500 °F.

Basis for proposed no significant hazards consideration determination: As required by 10 CFR 50.91(a), the licensee has provided its analysis of the issue of no significant hazards consideration, which is presented below:

Criterion 1: Does the proposed amendment involve a significant increase in the probability or consequences of an accident previously evaluated?

Response: No. DNC [Dominion Nuclear Connecticut, Inc.] is proposing to change the temperature at which the shutdown and control RCCA drop tests are performed from “greater than or equal to 551 °F,” to “greater than or equal to 500 °F.” The proposed change does not modify any plant equipment and does not impact any failure modes that could lead to an accident. Additionally, the proposed change has no effect on the consequence of any analyzed accident since the change does not affect the function of any equipment credited for accident mitigation. Based on this discussion, the proposed amendment does not increase the probability or consequences of an accident previously evaluated.

Criterion 2: Does the proposed amendment create the possibility of a new or different kind of accident from any accident previously evaluated?

Response: No. The proposed change does not modify any plant equipment and there is no impact on the capability of existing equipment to perform its intended functions. No system setpoints are being modified and no changes are being made to the method in which plant operations are conducted. No new failure modes are introduced by the proposed change. The proposed amendment does not introduce accident initiators or malfunctions that would cause a new or different kind of accident.

As noted above, the proposed change does not affect the revisions to plant procedures, which were made to address Westinghouse Nuclear Safety Advisory Letter, NSAL-00-016 (Rod Withdrawal from Subcritical Protection in Lower Modes, issued in 2000).

Therefore, the proposed amendment does not create the possibility of a new or different kind of accident from any accident previously evaluated.

Criterion 3: Does the proposed amendment involve a significant reduction in a margin of safety?

Response: No. The TS [technical specification] change does not involve a significant reduction in margin because the acceptance criterion for the RCCA drop time will not change. The proposed change will reduce the minimum RCCA drop test temperature from greater than or equal to 551 °F to greater than or equal to 500 °F. This will slightly increase the measured test RCCA drop time. However, the measured test RCCA drop time is required to remain within the current TS limit of 2.7 seconds and the 2.19 seconds for surveillance testing acceptance criteria (plant specific seismic allowance of 0.51 seconds). The proposed change does not affect any of the assumptions used in the accident analysis, nor does it affect any operability requirements for equipment important to plant safety. Therefore, the margin of safety is not impacted by the proposed amendment.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Waterford, CT 06141-5127.

NRC Section Chief: Darrell J. Roberts.

Dominion Nuclear Connecticut Inc., et al., Docket No. 50-423, Millstone Power Station, Unit No. 3, New London County, Connecticut

Date of amendment request: September 13, 2005.

Description of amendment request: The changes revise surveillance requirements for the recirculation spray system (RSS) to verify proper initiation of recirculation spray through actuation by the refueling water storage tank (RWST) low-low level signal instead of actuation by a timer.

Basis for proposed no significant hazards consideration determination: As required by 10 CFR 50.91(a), the licensee has provided its analysis of the issue of no significant hazards consideration, which is presented below:

Criterion 1: Does the proposed amendment involve a significant increase in the probability or consequences of an accident previously evaluated?

Response: No. The RSS is only an accident mitigation system. As such, changes in the operation of RSS cannot have an impact on the probability of an accident. The delay in the start of the RSS pump is to assure there is sufficient water in the containment sump for adequate RSS pump NPSH [net positive suction head] and margin to suction pipe flashing in light of the debris analysis conducted in response to GL [Generic Letter] 2004-02. Containment analyses have been performed to demonstrate that there is no impact on the peak containment pressure and temperature following a LOCA [loss-of-coolant accident]. While there are some changes in the predicted post-LOCA environmental conditions, evaluations have been performed to show that there is no significant impact on the environmental qualification for equipment inside containment. The impact to piping and supports has been demonstrated to be acceptable without modification. Delay in RSS spray start will result in a reduction in diesel generator loading since the RSS pumps and the RHS pumps will no longer be running concurrently. The reduction in iodine removal efficiency during the delay period is more than offset by elimination of over-conservatisms in assumptions for long term iodine removal by the RSS system. The net impact is a reduction in the predicted offsite doses and control room doses following a design basis LOCA. Based on this discussion, the proposed amendment does not increase the probability or consequence of an accident previously evaluated.

Criterion 2: Does the proposed amendment create the possibility of a new or different kind of accident from any accident previously evaluated?

Response: No. The proposed modification alters the RSS pump circuitry by initiating the start sequence with an existing RWST low-low level signal instead of a timer. The timer is now used to sequence pump starts. The pump function is not changed in any way. The proposed amendment does not introduce failure modes, accident initiators, or malfunctions that would cause a new or different kind of accident. Therefore, the proposed amendment does not create the possibility of a new or different kind of accident from any accident previously evaluated.

Criterion 3: Does the proposed amendment involve a significant reduction in a margin of safety?

Response: No. The proposed change ensures that adequate margin to suction line flashing and NPSH margin exists for proper operation of the RSS pumps once the effects of debris are considered as required per GL 2004-02. Function of the pumps is not affected. Analyses have been performed that show the containment design basis limits are satisfied and the post-LOCA offsite and control room doses meet the required criteria. Therefore, based on the above, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Nuclear Counsel, Dominion Nuclear Connecticut, Inc., Waterford, CT 06141-5127.

NRC Section Chief: Darrell J. Roberts.

Duke Energy Corporation, et al., Docket Nos. 50-369 and 50-370, McGuire Nuclear Station, Units 1 and 2, Mecklenburg County, North Carolina and Docket Nos. 50-413 and 50-414, Catawba Nuclear Station, Units 1 and 2, York County, South Carolina

Date of amendment request: June 29, 2005.

Description of amendment request: The amendment would revise Technical Specification Bases Section 3.6.11, “Air Return System (ARS),” and the Updated Final Safety Analysis Reports (UFSAR), Section 6.2, “Containment Systems,” for McGuire Nuclear Station, Units 1 and 2 and Catawba Nuclear Station, Units 1 and 2. The licensee proposes to implement an additional manual operator action to respond to NRC Bulletin 2003-01, “Potential Impact of Debris Blockage on Emergency Sump Recirculation at Pressurized-Water Reactors.” This amendment would allow plant operators to manually start one air return fan at a containment pressure of 1 psig prior to the automatic 9 minutes (+ 1 minute) delayed start described in the UFSAR.

Basis for proposed no significant hazards consideration determination: As required by 10 CFR 50.91(a), the licensee has provided its analysis of the issue of no significant hazards consideration, which is presented below:

First Standard

Does the change involve a significant increase in the probability or consequences of an accident previously evaluated?

No. The manual start of an Air Return System (ARS) fan will not result in a significant increase in the probability of an accident previously evaluated. The starting of an ARS fan is not considered to be an initiator of any accident or transient. This action is not taken during normal plant operation, but in response to an accident. The ARS fans do not operate to provide any normal ventilation requirement. The Containment Pressure Control System (CPCS) is provided to prevent excessive depressurization of the containment through inadvertent or excessive operation of certain engineered safety features. The CPCS prevents the inadvertent actuation of an ARS fan during normal operation.

This change is being requested in order to mitigate the consequences of a small break loss of coolant accident (SBLOCA) and help prevent or delay reaching the initiation pressure setpoint for containment spray, thereby reducing associated problems with possible sump debris buildup. SBLOCA events are bounded by the consequences of a design basis large break [loss of coolant accident] LOCA as addressed in Section 15 of the McGuire and Catawba [Updated Final Safety Analysis Report] UFSARs. Accordingly, this amendment will not involve a significant increase in the consequences of an accident previously evaluated.

Second Standard

Does the change create the possibility of a new or different kind of accident from any accident previously evaluated?

No. The change proposed in this [license amendment request] LAR does not involve a physical alteration to the plant (i.e., no new or different type of equipment will be installed) or a change in the methods governing any normal plant operation. It does allow for the early start of one ARS fan during a SBLOCA event with containment pressure greater than 1 psig and less than 3 psig. This change will not affect or degrade the ability of the ARS to perform its specified safety functions.

Accidents of a different type are credible accidents that the proposed amendment could create that are not bounded by UFSAR evaluated accidents. This amendment allows for the manual start of an ARS fan following a SBLOCA within the containment. No new failure modes are introduced due to the manual start of an ARS fan. The circuit used to manually start an ARS fan does not interfere with the automatic signal to start an ARS fan. This change does not require any modifications to the control circuitry for the ARS. The starting of an ARS fan is not considered to be an initiator of any accident or transient. This action (starting of an ARS fan) is not taken during normal operation, but in response to an accident. Previous accidents considered incredible are not made more likely by this change. A human performance error, such as starting the ARS fan too early, too late, or not at all, would not result in a substantial difference in the calculated differential pressure across the divider deck. Since no new malfunctions of equipment with a different result are introduced, all effects of any malfunctions are bounded by those already evaluated in the UFSAR. Thus it is concluded that the change contained in this LAR will not create the possibility of a new or different kind of accident from any accident previously evaluated.

Third Standard

Does the proposed change involve a significant reduction in a margin of safety?

No. The early manual start of an ARS fan for SBLOCA events will not reduce the ability of this system to perform its design functions to assure the rapid return of air from the upper to the lower containment compartment after the initial blowdown following a Design Basis Accident (DBA). The return of this air to the lower compartment and subsequent recirculation back up through the ice condenser assists in cooling the containment atmosphere and limiting post accident pressure and temperature in containment to less than design values. Limiting pressure and temperature also reduces the release of fission product radioactivity from containment to the environment in the event of a DBA. Therefore, there are no adverse dose effects from the early start of the ARS fan or from the delay of containment spray based on the current licensing basis.

Analyses have shown that there will be no fan or damper malfunction due to the early manual start of a fan. The other functions of the system are not affected by the change proposed in this LAR. The manual start of the ARS during a SBLOCA will help maintain the margin of safety by forcing air and steam through the ice condenser with a subsequent reduction in the rate of pressure increase in the containment, and a delay in reaching the actuation setpoint for the containment spray system. The containment spray system will continue to be initiated at the normal setpoint pressure of the system (-3 psig). Therefore, the proposed changes listed above do not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Legal Department (PB05E), Duke Energy Corporation, 422 South Church Street, Charlotte, North Carolina 28201-1006.

NRC Section Chief: Evangelos C. Marinos.

Entergy Operations, Inc., System Energy Resources, Inc., South Mississippi Electric Power Association, and Entergy Mississippi, Inc., Docket No. 50-416, Grand Gulf Nuclear Station, Unit 1, Claiborne County, Mississippi

Date of amendment request: August 17, 2005.

Description of amendment request: The proposed changes will revise the Operating License Condition 2.C.(41), Fire Protection Program, to add a reference to the Nuclear Regulatory Commission (NRC) safety evaluation that allows the application of National Fire Protection Agency risk-informed, performance based fire protection methods and tools that have been approved by the NRC.

Basis for proposed no significant hazards consideration determination: As required by 10 CFR 50.91(a), the licensee has provided its analysis of the issue of no significant hazards consideration, which is presented below:

1. Does the proposed change involve a significant increase in the probability or consequences of an accident previously evaluated?

Response: No. The proposed activity involves the use of a risk-informed, performance-based method to identify those circuits where a single fire could damage more than one safe shutdown train. These circuits would then be provided with one hour rated fire wrap. With the exception of the fire wrap itself, the proposed activity does not result in any physical changes to safety-related structures, systems, or components (SSCs), or the manner in which safety-related SSCs are operated, maintained, modified, tested, or inspected. The proposed activity does not degrade the performance or increase the challenges of any safety-related SSCs assumed to function in the accident analysis. As a result, the proposed activity does not introduce any new accident initiators. In addition, fires are not an accident that is previously evaluated in Chapter 15. Regardless, the proposed activity does not change the probability of a fire occurring since fire ignition frequency is independent of the presence of the fire wrap. The consequences of the proposed activity are bounded by the fire safe shutdown analysis, which assumes one train is free of fire damage.

Therefore, providing one hour rated fire wrap for those circuits where a single fire could damage more than one safe shutdown train does not involve a significant increase in the probability or consequences of an accident previously evaluated.

2. Does the proposed change create the possibility of a new or different kind of accident from any accident previously evaluated?

Response: No. The proposed activity involves the use of a risk-informed, performance-based method to identify those circuits where a single fire could damage more than one safe shutdown train. These circuits would then be provided with one hour rated fire wrap. With the exception of the fire wrap itself, the proposed activity does not result in any physical changes to safety-related structures, systems, or components (SSCs), or the manner in which safety-related SSCs are operated, maintained, modified, tested, or inspected. The proposed activity does not degrade the performance or increase the challenges of any safety-related SSCs assumed to function in the accident analysis. As a result, the proposed activity does not introduce nor increase the number of failure mechanisms of a new or different type than those previously evaluated. The fire safe shutdown analysis assumes one train is maintained free of fire damage.

Therefore, providing one hour rated fire wrap for those circuits where a single fire could damage more than one safe shutdown train does not create the possibility of a new or different kind of accident from any accident previously evaluated.

3. Does the proposed change involve a significant reduction in a margin of safety?

Response: No. The proposed activity involves the use of a risk-informed, performance-based method to identify those circuits where a single fire could damage more than one safe shutdown train. These circuits would then be provided with one hour rated fire wrap. With the exception of the fire wrap itself, the proposed activity does not result in any physical changes to safety-related structures, systems, or components (SSCs), or the manner in which safety-related SSCs are operated, maintained, modified, tested, or inspected. The proposed activity does not degrade the performance or increase the challenges of any safety-related SSCs assumed to function in the accident analysis.

The proposed activity does not impact plant safety since the conclusions of the fire safe shutdown analysis remain unchanged.

Therefore, providing one hour rated fire wrap for those circuits where a single fire could damage more than one safe shutdown train does not involve a significant reduction in a margin of safety.

The NRC staff has reviewed the licensee's analysis and, based on this review, it appears that the three standards of 10 CFR 50.92(c) are satisfied. Therefore, the NRC staff proposes to determine that the amendment request involves no significant hazards consideration.

Attorney for licensee: Nicholas S. Reynolds, Esquire, Winston and Strawn, 1700 K Street, NW., Washington, DC 20006-3817.

NRC Section Chief: David Terao.

Entergy Operations Inc., Docket No. 50-382, Waterford Steam Electric Station, Unit 3, St. Charles Parish, Louisiana

Date of amendment request: July 21, 2005.

Description of amendment request: The amendment proposes to replace the existing steam generator tube surveillance program with that being proposed by the Technical Specification Task Force (TSTF) in TSTF 449, Revision 4.

Basis for proposed no significant hazards consideration determination: As required by 10 CFR 50.91(a), the licensee has provided its analysis of the issue of no significant hazards consideration, which is presented below:

1. Does the proposed change involve a significant increase in the probability or consequences of an accident previously evaluated?

Response: No. The proposed change requires a Steam Generator Program that includes performance criteria that will provide reasonable assurance that the steam generator (SG) tubing will retain integrity over the full range of operating conditions (including startup, operation in the power range, hot standby, cooldown and all anticipated transients included in the design specification). The SG performance criteria are based on tube structural integrity, accident induced leakage, and operational leakage.

The structural integrity performance criterion is:

Structural integrity performance criterion: All in-service steam generator tubes shall retain structural integrity over the full range of normal operating conditions (including startup, operation in the power range, hot standby, and cool down and all anticipated transients included in the design specification) and design basis accidents. This includes retaining a safety factor of 3.0 against burst under normal steady state full power operation primary to secondary pressure differential and a safety factor of 1.4 against burst applied to the design basis accident primary to secondary pressure differentials. Apart from the above requirements, additional loading conditions associated with the design basis accidents, or combination of accidents in accordance with the design and licensing basis, shall also be evaluated to determine if the associated loads contribute significantly to burst or collapse. In the assessment of tube integrity, those loads that do significantly affect burst or collapse shall be determined and assessed in combination with the loads due to pressure with a safety factor of 1.2 on the combined primary loads and 1.0 on axial secondary loads.

The accident induced leakage performance criterion is: The primary to secondary accident induced leakage rate for any design basis accidents, other than a SG tube rupture, shall not exceed the leakage rate assumed in the accident analysis in terms of total leakage rate for all SGs and leakage rate for an individual SG. Leakage is not to exceed 540 gallons per day through any one SG, except for specific types of degradation at specific locations as described in paragraph c of the Steam Generator Program.

The operational leakage performance criterion is: The RCS operational primary to secondary leakage through any one SG shall be limited to ≤ 75 gallons per day per SG.

A steam generator tube rupture (SGTR) event is one of the design basis accidents that is analyzed as part of a plant's licensing basis. In the analysis of a SGTR event, a bounding primary to secondary leakage rate equal to the leakage rate associated with a double-ended rupture of a single tube is assumed.

For other design basis accidents such as main steam line break (MSLB), control element assembly (CEA) ejection, and reactor coolant pump seized rotor/sheared shaft, the tubes are assumed to retain their structural integrity (i.e., they are assumed not to rupture). The accident induced leakage criterion introduced by the proposed changes account for tubes that may leak during design basis accidents. The accident induced leakage criterion limits this leakage to no more than the value assumed in the accident analysis.

The SG performance criteria proposed change identify the standards against which tube integrity is to be measured. Meeting the performance criteria provides reasonable assurance that the SG tubing will remain capable of fulfilling its specific safety function of maintaining reactor coolant pressure boundary integrity throughout each operating cycle and in the unlikely event of a design basis accident. The performance criteria are only a part of the Steam Generator Program required by the proposed change. The program, defined by NEI [Nuclear Energy Institute] 97-06, Steam Generator Program Guidelines, includes a framework that incorporates a balance of prevention, inspection, evaluation, repair, and leakage monitoring.

The consequences of design basis accidents are, in part, functions of the Specific Activity in the primary coolant and the primary to secondary leakage rates resulting from an accident. Therefore, limits are included in the plant technical specifications for operational leakage and for Specific Activity in primary coolant to ensure the plant is operated within its analyzed condition. For those analyzed events that do not result in faulted steam generators, greater than or equal to 75 gpd [gallons per day] primary to secondary leakage per steam generator is assumed in the analysis. For those analyzed events that result in a faulted steam generator (e.g., MSLB), 540 gpd primary to secondary leakage is assumed though the faulted steam generator while greater than or equal to 75 gpd primary to secondary leakage is assumed though the intact steam generator.

The proposed change does not affect the design of the SGs, their method of operation, or primary coolant chemistry controls. The proposed approach updates the current technical specifications and enhances the requirements for SG inspections. The proposed change does not adversely impact any other previously evaluated design basis accident and is an improvement over the current Technical Specifications.

Therefore, the proposed change does not affect the consequences of a SGTR accident and the probability of such an accident is reduced. In addition, the proposed changes do not affect the consequences of other design basis events.

2. Does the proposed change create the possibility of a new or different kind of accident from any previously evaluated?

Response: No. The proposed performance based requirements are an improvement over the requirements imposed by the current technical specifications.

Implementation of the proposed Steam Generator Program will not introduce any adverse changes to the plant design basis or postulated accidents resulting from potential tube degradation. The result of the implementation of the Steam Generator Program will be an enhancement of SG tube performance. Primary to secondary leakage that may be experienced during all plant conditions will be monitored to ensure it remains within current accident analysis assumptions.

The proposed change does not affect the design of the SGs, their method of operation, or primary or secondary coolant chemistry controls. In addition, the proposed change does not impact any other plant system or component.

The change enhances SG inspection requirements. Therefore, the proposed change does not create the possibility of a new or different type of accident from any accident previously evaluated.

3. Does the proposed change involve a significant reduction in a margin of safety?

Response: No. The SG tubes in pressurized water reactors are an integral part of the reactor coolant pressure boundary and, as such, are relied upon to maintain the primary system's pressure and inventory. As part of the reactor coolant pressure boundary, the SG tubes are unique in that they are also relied upon as a heat transfer surface between the primary and secondary systems such that residual heat can be removed from the primary system. In addition, the SG tubes isolate the radioactive fission products in the primary coolant from the secondary system. In summary, the safety function of a SG is maintained by ensuring the integrity of its tubes.

Steam generator tube integrity is a function of the design, environment, and the physical condition of the tube. The proposed change does not affect tube design or operating environment. The proposed change is expected to result in an improvement in the tube integrity by implementing the Steam Generator Program to manage SG tube inspection, assessment, repair, and plugging. The requirements established by the Steam Generator Program are consistent with those in the applicable design codes and standards and are an improvement over the requirements in the current technical specifications.

The NRC staff has reviewed the licensee's analysis and, based on this review, it appears that the three standards of 10 CFR 50.92(c) are satisfied. Therefore, the NRC staff proposes to determine that the amendment request involves no significant hazards consideration.

Attorney for licensee: N.S. Reynolds, Esquire, Winston & Strawn 1700 K Street, NW., Washington, DC 20006-3817.

NRC Section Chief: David Terao.

Florida Power and Light Company, Docket Nos. 50-250 and 50-251, Turkey Point Plant, Units 3 and 4, Miami-Dade County, Florida

Date of amendment request: July 21, 2005.

Description of amendment request: The requested change will delete Technical Specification (TS) 6.9.1.2 related to Occupational Radiation Exposure Reports and TS 6.9.1.5, “Monthly Operating Reports.”

Basis for proposed no significant hazards consideration determination: The NRC staff issued a notice of availability of a model no significant hazards consideration (NSHC) determination for referencing in license amendment applications in the Federal Register on June 23, 2004 (69 FR 35067). The licensee affirmed the applicability of the model NSHC determination in its application dated July 21, 2005.

Basis for proposed no significant hazards consideration determination: As required by 10 CFR 50.91(a), an analysis of the issue of no significant hazards consideration is presented below:

1. Does the proposed change involve a significant increase in the probability or consequences of an accident previously evaluated?

Response: No. The proposed change eliminates the Technical Specifications (TSs) reporting requirements to provide a monthly operating letter report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

Response: No. The proposed change does not involve a physical alteration of the plant, add any new equipment, or require any existing equipment to be operated in a manner different from the present design. Therefore, the proposed change does not create the possibility of a new or different kind of accident from any accident previously evaluated.

3. Does the proposed change involve a significant reduction in a margin of safety?

Response: No. This is an administrative change to reporting requirements of plant operating information and occupational radiation exposure data, and has no effect on plant equipment, operating practices or safety analyses assumptions. For these reasons, the proposed change does not involve a significant reduction in the margin of safety.

Based upon the reasoning presented above, the requested change does not involve significance hazards consideration.

Attorney for licensee: M.S. Ross, Attorney, Florida Power & Light, P.O. Box 14000, Juno Beach, Florida 33408-0420.

NRC Section Chief: Michael L. Marshall, Jr.

Florida Power and Light Company, et al., Docket Nos. 50-335 and 50-389, St. Lucie Plant, Unit Nos. 1 and 2, St. Lucie County, Florida

Date of amendment request: September 1, 2005.

Description of amendment request: The requested change will delete Technical Specification (TS) 6.9.1.2 related to Occupational Radiation Exposure Reports and TS 6.9.1.6, “Monthly Operating Reports.”

Basis for proposed no significant hazards consideration determination: As required by 10 CFR 50.91(a), the licensee has provided its analysis of the issue of no significant hazards consideration, which is presented below:

1. Does the proposed change involve a significant increase in the probability or consequences of an accident previously evaluated?

No. The proposed change eliminates the Technical Specifications (TSs) reporting requirements to provide a monthly operating report of shutdown experience and operating statistics if the equivalent data is submitted using an industry electronic database. It also eliminates the TS reporting requirement for an annual occupational radiation exposure report, which provides information beyond that specified in NRC regulations. The proposed change involves no changes to plant systems or accident analyses. As such, the change is administrative in nature and does not affect initiators of analyzed events or assumed mitigation of accidents or transients. Therefore, the proposed change does not involve a significant increase in the probability or consequences of an accident previously evaluated.

2. Does the proposed change create the possibility of a new or different kind of accident from any accident previously evaluated?

No. The proposed change does not involve a physical alteration of the plant, add any new equipment, or require any existing equipment to be operated in a manner different from the present design. Therefore, the proposed change does not create the possibility of a new or different kind of accident from any accident previously evaluated.

3. Does the proposed change involve a significant reduction in a margin of safety?

No. This is an administrative change to reporting requirements of plant operating information and occupational radiation exposure data, and has no effect on plant equipment, operating practices or safety analyses assumptions. For these reasons, the proposed change does not involve a significant reduction in the margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Section Chief: Michael L. Marshall, Jr.

Nebraska Public Power District, Docket No. 50-298, Cooper Nuclear Station, Nemaha County, Nebraska

Date of amendment request: July 21, 2005.

Description of amendment request: The proposed amendment would revise Technical Specification (TS) testing frequency for the surveillance requirement (SR) in TS 3.1.4, “Control Rod Scram Times.” Specifically, the proposed change would revise the frequency for SR 3.1.4.2, control rod scram time testing, from “120 days cumulative operation in MODE 1” to “200 days cumulative operation in MODE 1.”

The NRC staff issued a notice of availability of a model no significant hazards consideration (NSHC) determination for referencing in licensing amendment applications in the Federal Register on August 23, 2004 (69 FR 51864). The licensee affirmed the applicability of the model NSHC determination in its application dated July 21, 2005.

Basis for proposed no significant hazards consideration determination: As required by 10 CFR 50.91(a), an analysis of the issue of no significant hazards consideration is presented below:

1. Does the change involve a significant increase in the probability or consequences of an accident previously evaluated?

Response: No. The proposed change extends the frequency for testing control rod scram time testing from every 120 days of cumulative Mode 1 operation to 200 days of cumulative Mode 1 operation. The frequency of surveillance testing is not an initiator of any accident previously evaluated. The frequency of surveillance testing does not affect the ability to mitigate any accident previously evaluated, as the tested component is still required to be operable. Therefore, the proposed change does not involve a significant increase in the probability or consequences of an accident previously evaluated.

2. Does the change create the possibility of a new or different kind of accident from any accident previously evaluated?

Response: No. The proposed change extends the frequency for testing control rod scram time testing from every 120 days of cumulative Mode 1 operation to 200 days of cumulative Mode 1 operation. The proposed change does not result in any new or different modes of plant operation. Therefore, the proposed change does not create the possibility of a new or different kind of accident from any previously evaluated.

3. Does the proposed change involve a significant reduction in a margin of safety?

Response: No. The proposed change extends the frequency for testing control rod scram time testing from every 120 days of cumulative Mode 1 operation to 200 days of cumulative Mode 1 operation. The proposed change continues to test the control rod scram time to ensure the assumptions in the safety analysis are protected. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John R. McClure, Nebraska Public Power District, Post Office Box 499, Columbus, NE 68602-0499.

NRC Section Chief: David Terao.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: November 12, 2004, as supplemented by letters dated September 2 and September 16, 2005.

Description of amendment request: The proposed amendments would revise Technical Specifications 3.1.7, “Standby Liquid Control (SLC) System,” for Hatch, Units 1 and 2. The proposed amendments would update Figures 3.1.7-1 and 3.1.7-2 for Units 1 and 2 TS to reflect the increased concentration of Boron-10 in the solution. Conforming revisions to Bases B 3.1.7, “Standby Liquid Control (SLC) System” are also included.

The proposed amendment was previously noticed on February 1, 2005 (70 FR 5249).

Basis for proposed no significant hazards consideration determination: As required by 10 CFR 50.91(a), the licensee has provided its analysis of the issue of no significant hazards consideration, which is presented below:

1. Does the proposed change involve a significant increase in the probability or consequences of an accident previously evaluated?

This is a proposed change to Figures 3.1.7-1 and 3.1.7-2 of the Units 1 and 2 TS [Technical Specifications]. Figure 3.1.7-1 is a plot of the weight percent of Sodium Pentaborate solution in the Standby Liquid Control (SLC) Tank, as a function of the gross volume of solution in the tank. Figure 3.1.7-2 is a plot of the Sodium Pentaborate temperature versus concentration requirements.

Figure 3.1.7-1 is proposed to be changed in order to accommodate an injection of Sodium Pentaborate solution into the reactor, following an ATWS [anticipated transient without scram] event, such that the concentration of Boron-10 atoms in the reactor will be 800 ppm natural Boron equivalent. This is necessary to accommodate increased cycle energy requirements for the Hatch Units 1 and 2 cores. Both Figures 3.1.7-1 and 3.1.7-2 are changed to reflect that the boundary between Region A and B is changing from 6.9% to 7.0%. The proposed change to the Figures will not increase the probability of an ATWS event because the curves have nothing to do with the prevention of an ATWS event. The new requirements will insure that, in the future, the core will have adequate shutdown margin to mitigate the consequences of an ATWS event.

The minimum concentration of Sodium Pentaborate which also represents the boundary between Region A and Region B, is changing from 6.9% to 7.0%. This increase in the concentration ensures a conservative margin to the ATWS equivalency determination required by 10 CFR 50.62.

Also, no systems or components designed to ensure the safe shutdown of the reactor are being physically changed as a result of this proposed TS change. In fact, no safety related systems or components designed for the prevention of previously evaluated events are being altered by the amendment.

2. The proposed change does not create the possibility of a new or different kind of accident from any previously evaluated.

This proposed TS revision results in a change to SLC TS Figures 3.1.7-1 and 3.1.7-2 requirements. However, these changes do not result in physical changes to the SLC system. SLC pump operation, maintenance and testing remain the same. Accordingly, no changes to the operation, maintenance or surveillance procedures will result from this TS revision request. Therefore, no new modes of operation are introduced by this TS change.

Since no new modes of operation are introduced, the proposed change does not create the possibility of a new or different type event from any previously evaluated.

3. The proposed change does not involve a significant reduction in the margin of safety.

This proposed TS change is being made to increase the boron concentration requirements of the sodium pentaborate solution injected into the reactor vessel following an Anticipated Transient Without Scram (ATWS) event. The change is necessary due to new fuel designs and higher energy requirements for fuel cycles. Therefore, the change is being made to insure that shutdown requirements can be met for the ATWS event. This will insure the margin of safety with respect to ATWS will continue to be met.

The increase in the minimum concentration from 6.9% to 7.0% ensures a conservative margin with respect to the ATWS equivalency determination. Consequently, this proposed TS change will not result in a decrease in the margin of safety.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street, NW., Washington, DC 20037.

NRC Section Chief: Evangelos C. Marinos.

Tennessee Valley Authority, Docket Nos. 50-327 and 50-328, Sequoyah Nuclear Plant, Units 1 and 2, Hamilton County, Tennessee

Date of amendment request: September 1, 2005 (TS-05-04).

Description of amendment request: The proposed amendment would revise the reactor protection system turbine trip allowable value for low trip system pressure from greater than or equal to 43 pounds per square inch gauge (psig) to 39.5 psig. This change would allow the instrumentation that performs this trip function to be tested and verified to be operable within the capabilities of the pressure switches.

Basis for proposed no significant hazards consideration determination: As required by 10 CFR 50.91(a), the licensee has provided its analysis of the issue of no significant hazards consideration, which is presented below:

1. Does the proposed change involve a significant increase in the probability or consequences of an accident previously evaluated?

Response: No. The proposed change revises the allowable value for reactor trip as a result of a turbine trip on low trip system pressure. This change will not alter any plant components, systems, or processes and will only provide a more appropriate value to assess operability of the associated pressure switches. Since the plant features and operating practices are not altered, the possibility of an accident is not affected. This reactor trip is not directly credited in SQN's accident analysis and is maintained as an anticipatory trip to enhance the overall reliability of the reactor trip system. As such, there is not a specific safety limit associated with this function and the generation of a reactor trip based on low trip system pressure is above the required actuations to ensure acceptable mitigation of accidents. As the proposed change will continue to provide an acceptable anticipatory trip signal, the offsite dose potential is not affected by this change. Therefore, the proposed change does not involve a significant increase in the probability or consequences of an accident previously evaluated.

2. Does the proposed change create the possibility of a new or different kind of accident from any accident previously evaluated?

Response: No. As described above, this change will not alter any plant equipment or operating practices that have the ability to create a new potential for accident generation. The proposed change revises the operability limits for a function that generates a trip signal when appropriate conditions exist to require accident mitigation response. This type of function does not have the ability to create an accident as its purpose and function is to mitigate events. Therefore, the proposed change does not create the possibility of a new or different kind of accident from any previously evaluated.

3. Does the proposed change involve a significant reduction in a margin of safety?

Response: No. The proposed change will revise an allowable value for a reactor trip initiator that results from a turbine trip condition. This change will not alter the setpoint, and the calibration of the associated pressure switches will continue to be set at the current values. The allowable value change is in response to accuracy aspects of the instrumentation and does not alter the ability of this trip function to operate when and as needed to mitigate accident conditions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Section Chief: Michael L. Marshall, Jr.

Wolf Creek Nuclear Operating Corporation, Docket No. 50-482, Wolf Creek Generating Station, Coffey County, Kansas

Date of amendment request: August 26, 2005.

Description of amendment request: The amendment would authorize changes to the Updated Safety Analysis Report (USAR) for Wolf Creek Generating Station (WCGS) that would revise the methodology for the reactor coolant system (RCS) leak detection instrumentation. This revision would clarify the requirements of the containment atmosphere gaseous radioactivity monitor with regard to the RCS leak detection capability and would justify that the monitor can be considered operable in compliance with Limiting Condition for Operation 3.4.15, in Technical Specification (TS) 3.4.15, “RCS Leakage Detection Instrumentation,” during all applicable Modes. There are no proposed changes to the WCGS TSs.

Basis for proposed no significant hazards consideration determination: As required by 10 CFR 50.91(a), the licensee has provided its analysis of the issue of no significant hazards consideration, which is presented below:

1. The proposed change does not involve a significant increase in the probability or consequences of an accident previously evaluated.

The proposed change has been evaluated and determined to not increase the probability or consequences of an accident previously evaluated. The proposed change does not make hardware changes and does not alter the configuration of any plant system, structure, or component (SSC). The proposed change only clarifies the design and OPERABILITY requirements for the containment atmosphere gaseous radioactivity monitors and identifies the capabilities of the monitors at low RCS [radio]activity levels. The containment atmosphere gaseous radioactivity monitors are not initiators of any accident; therefore, the probability of occurrence of an accident is not increased. The USAR and TSs will continue to require diverse means of [RCS] leakage detection equipment, thus ensuring that leakage due to cracks [in the RCS] would continue to be identified prior to propagating to the point of a[n] [RCS] pipe break. Therefore, the consequences of an accident [previously evaluated] are not increased.

2. The proposed change does not create the possibility of a new or different kind of accident from any accident previously evaluated.

The proposed change does involve the use or installation of new equipment and the currently installed equipment will not be operated in a new or different manner. No new or different system interactions are created and no new processes are introduced. The proposed changes will not introduce any new failure mechanisms, malfunctions, or accident initiators not already considered in the design and licensing basis [for WCGS]. The proposed change does not affect any SSC associated with an accident initiator. Based on this evaluation, the proposed change does not create the possibility of a new or different kind of accident from any accident previously evaluated.

3. The proposed change does not involve a significant reduction in a margin of safety.

The proposed change does not alter any RCS leakage detection components. The proposed change only clarifies the design and operability requirements for the containment atmosphere gaseous radioactivity monitor and identifies the capabilities of the containment atmosphere gaseous radioactivity monitors at low RCS [radio]activity levels. This change is required since the level of radioactivity in the WCGS reactor coolant has become much lower than what was assumed in the USAR and the gaseous channel [(monitor)] can no longer promptly detect a small RCS leak under all operating conditions. The proposed amendment continues to require diverse means of [RCS] leakage detection equipment with [the] capability to promptly detect RCS leakage. Although not required by [the] TS[s], additional diverse means of leakage detection capability are available as described in the USAR Section 5.2.5. Early detection of [RCS] leakage, as the potential indicator of a crack(s) in the RCS pressure boundary, will thus continue to be in place so that such a condition is known and appropriate actions [are] taken well before any such crack would propagate to a more severe condition. Based on this evaluation, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Shaw, Pittman, Potts and Trowbridge, 2300 N Street, NW., Washington, DC 20037.

NRC Section Chief: Daniel S. Collins, Acting.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-289, Three Mile Island Nuclear Station, Unit 1 (TMI-1), Dauphin County, Pennsylvania

Date of application for amendment: October 20, 2004, as supplemented by letters dated June 30, July 29, August 17, and September 19, 2005.

Brief description of amendment: The amendment revised the Technical Specifications to (1) eliminate the existing requirement in Section 3.8.6 regarding maintaining the containment equipment hatch cover in place with a minimum of four bolts during fuel loading and refueling operations, and (2) revise or introduce commitments to the Technical Specifications Bases in support of the change in Section 3.8.6.

Date of issuance: October 13, 2005.

Effective date: As of the date of issuance and shall be implemented within 30 days.

Amendment No.: 257.

Facility Operating License No. DPR-50. Amendment revised the Technical Specifications.

Date of initial notice in Federal Register: December 7, 2004 (69 FR 70714) The supplements dated June 30, July 29, August 17, and September 19, 2005, provided additional information that clarified the application, did not expand the scope of the application as originally noticed, and did not change the NRC staff's original proposed no significant hazards consideration determination. The Commission's related evaluation of the amendment is contained in a Safety Evaluation dated October 13, 2005.

No significant hazards consideration comments received: No.

Arizona Public Service Company, et al., Docket Nos. STN 50-528, STN 50-529, and STN 50-530, Palo Verde Nuclear Generating Station, Units Nos. 1, 2, and 3, Maricopa County, Arizona

Date of application for amendments: May 28, 2003, as supplemented by letters dated January 22 and June 23, 2004, and February 2 and September 27, 2005.

Brief description of amendments: The amendments revise several surveillance requirements (SRs) in Technical Specification (TS) 3.8.1 on alternating current power sources and SR 3.8.4.6 for direct current power sources for plant operation. The revised SRs have notes deleted or modified to adopt in part the staff-approved TS Task Force 283, Revision 3, to allow these SRs to be performed, or partially performed, in reactor modes that previously were not allowed by the TSs.

Date of issuance: September 29, 2005.

Effective date: September 29, 2005, and shall be implemented within 90 days of the date of issuance including the incorporation of the changes to the TS Bases for TS 3.8.1 and SR 3.8.4.6 as described in the licensee's letters dated May 28, 2003, January 22 and June 23, 2004, and February 2 and September 27, 2005.

Amendment Nos.: Unit 1—156, Unit 2—156, Unit 3—156.

Facility Operating License Nos. NPF-41, NPF-51, and NPF-74: The amendments revised the Technical Specifications.

Date of initial notice in Federal Register: July 8, 2003 (68 FR 40709).

The supplemental letters dated January 22, June 23, 2004, and February 2 and September 27, 2005, do not expand the scope of the application as originally noticed and do not change the NRC staff's original proposed no significant hazards consideration determination.

The Commission's related evaluation of the amendment is contained in a Safety Evaluation dated September 29, 2005.

No significant hazards consideration comments received: No.

Dominion Energy Kewaunee, Inc. Docket No. 50-305, Kewaunee Power Station, Kewaunee County, Wisconsin

Date of application for amendment: February 3, 2005.

Brief description of amendment: The amendment modified Technical Specification (TS) 6.16.b.1, “Radioactive Effluent Controls Program,” and TS 6.18, “Off-site Dose Calculation Manual (ODCM),” to be consistent with Title 10 of the Code of Federal Regulations (10 CFR) part 20 and NUREG-1431, “Standard Technical Specifications Westinghouse Plants.”

Date of issuance: October 4, 2005.

Effective date: As of the date of issuance and shall be implemented within 60 days.

Amendment No.: 186.

Facility Operating License No. DPR-43: Amendment revised the Technical Specifications.

Date of initial notice in Federal Register: March 29, 2005 (70 FR 15944).

The Commission's related evaluation of the amendment is contained in a Safety Evaluation dated October 4, 2005.

No significant hazards consideration comments received: No.

Duke Energy Corporation, et al., Docket Nos. 50-413 and 50-414, Catawba Nuclear Station, Units 1 and 2, York County, South Carolina

Date of application for amendments: November 25, 2002, as supplemented by letters dated November 13 and December 16, 2003, September 22, 2004, April 6, June 14, July 8, August 17, and September 8 and September 19, 2005.

Brief description of amendments: The amendments include a full-scope implementation of an alternative source term for evaluating the consequences of design basis accidents at Catawba Nuclear Station. The amendments also revised the Technical Specifications for the Ventilation Filter Testing Program, Annulus Ventilation System, Auxiliary Building Filtered Ventilation Exhaust System, Fuel Handling Ventilation Exhaust System, and Control Room Area Ventilation System, and containment penetrations.

Date of issuance: September 30, 2005.

Effective date: As of the date of issuance and shall be implemented within 30 days from the date of issuance.

Amendment Nos.: 227 and 222.

Renewed Facility Operating License Nos. NPF-35 and NPF-52: Amendments revised the Technical Specifications.

Date of initial notice in Federal Register: April 15, 2003 (68 FR 18272). This application was renoticed on May 24, 2005 (70 FR 29789).

The Commission's related evaluation of the amendments is contained in a Safety Evaluation dated September 30, 2005.

No significant hazards consideration comments received: No.

Energy Northwest, Docket No. 50-397, Columbia Generating Station, Benton County, Washington

Date of application for amendment: April 19, 2005.

Brief description of amendment: The amendment revised technical specifications (TSs) testing frequency for the surveillance requirement (SR) in TS 3.1.4, “Control Rod Scram Times.” Specifically, the change revised the frequency for SR 3.1.4.2, “Control Rod Scram Time Testing,” from “120 days cumulative operation in MODE 1” to “200 days cumulative operation in MODE 1.”

Date of issuance: September 29, 2005.

Effective date: September 29, 2005, and shall be implemented within 60 days from the date of issuance.

Amendment No.: 194.

Facility Operating License No. NPF-21: The amendment revised the Technical Specifications.

Date of initial notice in Federal Register: June 7, 2005 (70 FR 33212).

The Commission's related evaluation of the amendment is contained in a Safety Evaluation dated September 29, 2005.

No significant hazards consideration comments received: No.

Entergy Gulf States, Inc., and Entergy Operations, Inc., Docket No. 50-458, River Bend Station, Unit 1, West Feliciana Parish, Louisiana

Date of amendment request: December 17, 2004, as supplemented by letters dated June 29, and August 12, 2005.

Brief description of amendment: The amendment revises the Technical Specification (TS) requirements for direct current (DC) sources. The current TS only includes ACTION Statements for an inoperable DC Power subsystems. The change adds a new ACTION Statement to TS 3.8.4, “DC Sources—Operating,” to specifically address an inoperable battery charger.

Date of issuance: October 7, 2005.

Effective date: As of the date of issuance and shall be implemented within 30 days from the date of issuance.

Amendment No.: 148.

Facility Operating License No. NPF-47: The amendment revised the Technical Specifications.

Date of initial notice in Federal Register: January 4, 2005 (70 FR 401). The supplements dated June 29, and August 12, 2005, provided additional information that clarified the application, did not expand the scope of the application as originally noticed, and did not change the staff's original proposed no significant hazards consideration determination as published in the Federal Register.

The Commission's related evaluation of the amendment is contained in a Safety Evaluation dated October 7, 2005.

No significant hazards consideration comments received: No.

Entergy Operations, Inc., Docket No. 50-368, Arkansas Nuclear One, Unit No. 2, Pope County, Arkansas

Date of application for amendment: December 20, 2004, as supplemented by letter dated April 26, 2005.

Brief description of amendment: The amendment changed the existing containment structures and tendon inservice inspection requirements to be consistent with NUREG-1432, Revision 3, and the American Society of Mechanical Engineers Boiler and Pressure Vessel Code, Section XI. Specifically, the amendment modified the Surveillance Requirement of Technical Specification (TS) 3.6.1.5, added a new Surveillance Program to TS 6.5.6 and a report to TS 6.5.7, and made two administrative changes to the TSs.

Date of issuance: September 29, 2005.

Effective date: As of the date of issuance to be implemented within 90 days from the date of issuance.

Amendment No.: 262.

Renewed Facility Operating License No. NPF-6: Amendment revised the Technical Specifications.

Date of initial notice in Federal Register: March 29, 2005 (70 FR 15943).

The supplement dated April 26, 2005, provided additional information that clarified the application, did not expand the scope of the application as originally noticed, and did not change the staff's original proposed no significant hazards consideration determination as published in the Federal Register.

The Commission's related evaluation of the amendment is contained in a Safety Evaluation dated September 29, 2005.

No significant hazards consideration comments received: No.

Indiana Michigan Power Company, Docket Nos. 50-315 and 50-316, Donald C. Cook Nuclear Plant, Units 1 and 2, Berrien County, Michigan

Date of application for amendments: September 21, 2004, as supplemented by letters dated March 18, April 7, May 6, August 10, and September 19, 2005.

Brief description of amendments: The amendments extended the outage times from 72 hours to 14 days for an inoperable emergency diesel generator. It also changed formats of the affected technical specification pages to improve their appearance but not alter any requirements.

Date of issuance: September 30, 2005.

Effective date: As of the date of issuance and shall be implemented within 120 days.

Amendment Nos.: 291, 273.

Facility Operating License Nos. DPR-58 and DPR-74: The amendments revised the Technical Specifications.

Date of initial notice in Federal Register: October 26, 2004 (69 FR 62476). The supplements provided clarifying information that did not change the scope of the proposed amendment as described in the original notice of proposed action published in the Federal Register, and did not change the initial proposed no significant hazards consideration determination.

The Commission's related evaluation of the amendments is contained in a Safety Evaluation dated September 30, 2005.

No significant hazards consideration comments received: No.

Nuclear Management Company, LLC, Docket No. 50-263, Monticello Nuclear Generating Plant, Wright County, Minnesota

Date of application for amendment: June 30, 2004, as supplemented by letters dated September 16, 2004, November 5, 2004, March 3, 2005, July 1, 2005, and September 27, 2005.

Brief description of amendment: The amendment changed the TSs to support an increase in the length of the fuel cycle from 18 to 24 months at Monticello. In addition, the proposed amendment requested changes in calibration times of various instruments. These changes will be evaluated in a separate license amendment.

Date of issuance: September 30, 2005.

Effective date: As of the date of issuance and shall be implemented within 60 days.

Amendment No.: 143.

Facility Operating License No. DPR-22: Amendment revised the Technical Specifications.

Date of initial notice in Federal Register: January 18, 2005 (70 FR 2892). The supplements dated September 16, 2004, November 5, 2004, March 3, 2005, July 1, 2005, and September 27, 2005, provided additional information that clarified the application, did not expand the scope of the application as originally noticed, and did not change the staff's original proposed no significant hazards consideration determination as published in the Federal Register on January 18, 2005 (70 FR 2892).

The Commission's related evaluation of the amendment is contained in a Safety Evaluation dated September 30, 2005.

No significant hazards consideration comments received: No.

Omaha Public Power District, Docket No. 50-285, Fort Calhoun Station, Unit No. 1, Washington County, Nebraska

Date of amendment request: November 23, 2004, as supplemented by letter dated July 8, 2005.

Brief description of amendment: The amendment (1) revised the descriptive wording of Technical Specifications (TSs) Table 1-1, “RPS [reactor protection system] Limiting Safety System Settings,” for the reactor trip setpoint for low steam generator water level to relocate unnecessary detail, and (2) converted TSs Section 4.0, “Design Features,” to the format and content of NUREG-1432, Revision 3, “Standard Technical Specifications for Combustion Engineering Plants.”

Date of issuance: October 3, 2005.

Effective date: October 3, 2005, and shall be implemented within 60 days from the date of issuance.

Amendment No.: 236.

Renewed Facility Operating License No. DPR-40: The amendment revised the Technical Specifications.

Date of initial notice in Federal Register: May 24, 2005 (70 FR 29798).

The July 8, 2005, supplemental letter provided additional information that clarified the application, did not expand the scope of the application as originally noticed, and did not change the staff's original no significant hazards consideration determination.

The Commission's related evaluation of the amendment is contained in a safety evaluation dated October 3, 2005.

No significant hazards consideration comments received: No.

PPL Susquehanna, LLC, Docket Nos. 50-387 and 50-388, Susquehanna Steam Electric Station, Units 1 and 2 (SSES 1 and 2), Luzerne County, Pennsylvania

Date of application for amendments: September 8, 2004, as supplemented by letters dated July 8 and September 28, 2005.

Brief description of amendments: The amendments changed SSES 1 and 2 Technical Specifications 3.6.4.1, “Secondary Containment,” and 3.6.4.3, “Standby Gas Treatment System (SGTS),” to extend, on a one-time basis, the allowable completion time for required actions for secondary containment inoperable and two SGTS subsystems inoperable, in mode 1, 2, or 3, from 4 hours to 48 hours.

Date of issuance: October 6, 2005.

Effective date: October 6, 2005.

Amendment Nos.: 226 and 203.

Facility Operating License Nos. NPF-14 and NPF-22: The amendments revised the Technical Specifications.

Date of initial notice in Federal Register: March 1, 2005 (70 FR 9994). The supplements dated July 8 and September 28, 2005, contained clarifying information and did not change the initial no significant hazards consideration determination or expand the scope of the initial Federal Register notice.

The Commission's related evaluation of the amendments is contained in a Safety Evaluation dated October 6, 2005.

No significant hazards consideration comments received: No.

PSEG Nuclear LLC, Docket Nos. 50-272 and 50-311, Salem Nuclear Generating Station, Unit Nos. 1 and 2, Salem County, New Jersey

Date of application for amendments: April 15, 2004, as supplemented by letters dated August 11, 2004, and August 11, 2005. The August 11, 2005, supplement withdrew a portion of the original application from consideration.

Brief description of amendments: The amendments revised Technical Specification (TS) 3.6.2.3 Action B, for both units, to correct a non-conservative action statement.

Date of issuance: September 30, 2005.

Effective date: As of the date of issuance and shall be implemented within 30 days.

Amendment Nos.: 266 and 248.

Facility Operating License Nos. DPR-70 and DPR-75: The amendments revised the TSs.

Date of initial notice in Federal Register: October 12, 2004 (69 FR 60684). The licensee's supplement dated August 11, 2005, withdrew a portion of the original application from consideration and did not increase the scope of the initial proposed no significant hazards consideration determination.

The Commission's related evaluation of the amendments is contained in a Safety Evaluation dated September 30, 2005.

No significant hazards consideration comments received: No.

Southern California Edison Company, et al., Docket Nos. 50-361 and 50-362, San Onofre Nuclear Generating Station, Units 2 and 3, San Diego County, California

Date of application for amendments: March 24, 2005.

Brief description of amendments: The proposed changes revised various Technical Specifications (TSs) related to cycle-specific values and the shutdown margin, and are consistent with the following Nuclear Regulatory Commission approved Technical Specification Task Force (TSTF) Standard TS Change Travelers: TSTF-9-A, Revision 1, “Relocate Value for Shutdown Margin to COLR;” TSTF-67-A, Revision 0, “Correction of Shutdown Margin Definition;” TSTF-142-A, Revision 0, “Increase the Completion Time When the Core Reactivity Balance is Not Within Limit;” and TSTF-150-A, Revision 0, “Replace DNBR Power Decrease Number with Reference to the COLR.”

Date of issuance: October 3, 2005.

Effective date: As of the date of issuance, and shall be implemented within 60 days from the date of issuance.

Amendment Nos.: 200/191.

Facility Operating License Nos. NPF-10 and NPF-15: The amendments revised the Technical Specifications.

Date of initial notice in Federal Register: May 10, 2005 (70 FR 24656).

The Commission's related evaluation of the amendments is contained in a Safety Evaluation dated October 3, 2005.

No significant hazards consideration comments received: No.

STP Nuclear Operating Company, Docket Nos. 50-498 and 50-499, South Texas Project, Units 1 and 2, Matagorda County, Texas

Date of amendment request: July 4, 2005.

Brief description of amendments: The amendments change Technical Specification 4.0.5 to add a reference to the NRC-approved exemption of selected pumps, valves, and other components from special treatment requirements. As an editorial change, references to Title 10, Code of Federal Regulations (10 CFR) part 50, section 50.55a(f) and 10 CFR part 50, section 50.55a(f)(6)(I) is added to the paragraph for inservice testing, similar to the existing references for inservice inspection. In addition, “inservice testing” and “inservice inspection” are reordered for consistency with the sequence of the regulations in 10 CFR 50.55a.

Date of issuance: October 4, 2005.

Effective date: As of the date of issuance and shall be implemented within 90 days of issuance.

Amendment Nos.: Unit 1—173; Unit 2—161.

Facility Operating License Nos. NPF-76 and NPF-80: The amendments revised the Technical Specifications.

Date of initial notice in Federal Register: August 2, 2005 (70 FR 44403).

The Commission's related evaluation of the amendments is contained in a Safety Evaluation dated October 4, 2005.

No significant hazards consideration comments received: No.

TXU Generation Company LP, Docket Nos. 50-445 and 50-446, Comanche Peak Steam Electric Station, Unit Nos. 1 and 2, Somervell County, Texas

Date of amendment request: September 9, 2004.

Brief description of amendments: The Amendments revised the Technical Specification 3.6.6.8 to change the current interval for surveillance from every 10 years to verification that the nozzles are unobstructed following a maintenance that could have resulted in nozzle blockage.

Date of issuance: September 23, 2005.

Effective date: As of the date of issuance and shall be implemented within 60 days from the date of issuance.

Amendment Nos.: 120 and 120.

Facility Operating License Nos. NPF-87 and NPF-89: The Amendments revised the Technical Specifications.

Date of initial notice in Federal Register: October 26, 2004 (69 FR 62478).

The Commission's related evaluation of the amendments is contained in a Safety Evaluation dated September 23, 2005.

No significant hazards consideration comments received: No.

Union Electric Company, Docket No. 50-483, Callaway Plant, Unit 1, Callaway County, Missouri

Date of application for amendment: September 17, 2004, as supplemented by letters dated February 11, May 26, June 17 (two letters), July 15, July 29, August 16, and September 6, 2005.

Brief description of amendment: The amendment supports the installation of replacement steam generators (SGs) at Callaway during the refueling outage in the fall of 2005. The amendment affects the following affected TSs: the reactor core safety limits (TS 2.1.1), reactor trip system and engineered safety feature actuation system instrumentation (TSs 3.3.1 and 3.3.2), reactor coolant system (RCS) limits (TS 3.4.1), RCS loops (TSs 3.4.5, 3.4.6, and 3.4.7), RCS operational leakage (TS 3.4.13), SG tube integrity (the new TS 3.4.17), main steam safety valves (TS 3.7.1), SG tube surveillance program (TS 5.5.9), containment integrated leakage rate testing program (TS 5.5.16), and SG tube inspection report (TS 5.6.10).

Date of issuance: September 29, 2005.

Effective date: Effective on the date of issuance, and shall be implemented before entry into Mode 5 during the restart from the fall 2005 refueling outage when the replacement steam generators are installed including (1) revising the pressure temperature limits report to change the cold overpressure mitigation system setpoints to reflect no reactor coolant pump operation restrictions and (2) incorporating the TS Bases changes identified in the licensee's letter of September 6, 2005, into the TS Bases.

Amendment No.: 168.

Facility Operating License No. NPF-30: The amendment revised the Technical Specifications.

Date of initial notice in Federal Register: November 23, 2004 (69 FR 68185). The supplemental letters dated February 11, May 26, June 17 (two letters), July 15, July 29, August 16, and September 6, 2005, provided additional information that clarified the application, did not expand the scope of the application as originally noticed and did not change the NRC staff's original proposed no significant hazards consideration determination published in the Federal Register.

The Commission's related evaluation of the amendment is contained in a Safety Evaluation dated September 29, 2005.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical: primarily concerns/issues relating to technical and/or health and safety matters discussed or referenced in the applications.

2. Environmental: primarily concerns/issues relating to matters discussed or referenced in the environmental analysis for the applications.

3. Miscellaneous: does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer or the Atomic Safety and Licensing Board that the petition, request and/or the contentions should be granted based on a balancing of the factors specified in 10 CFR 2.309(a)(1)(I)-(viii).

Entergy Gulf States, Inc., and Entergy Operations, Inc., Docket No. 50-458, River Bend Station, Unit 1, West Feliciana Parish, Louisiana

Date of amendment request: August 31, 2005, as supplemented by letter dated September 13, 2005.

Brief description of amendment: The amendment permitted a one-time change to Technical Specification Table 3.3.8.1-1 to provide a one-time relaxation of the Loss of Power instrumentation requirements.

Date of issuance: September 15, 2005.

Effective date: As of the date of issuance to be implemented immediately.

Amendment No.: 147.

Facility Operating License No. NPF-47: Amendment revised the Technical Specifications.

Public comments requested as to proposed no significant hazards consideration: Yes.

The NRC published a public notice of the proposed amendment, issued a proposed finding of no significant hazards consideration, and requested that any comments on the proposed no significant hazards consideration be provided to the NRC staff by the close of business on September 9, 2005. The notice was published in The St. Francisville Democrat (in St. Francisville) on September 8, 2005, and The Advocate (in Baton Rouge) on September 7, 2005. No public comments were received.

The Commission's related evaluation of the amendment, finding of exigent circumstances, consultation with the State of Louisiana, and final no significant hazards consideration determination are contained in a Safety Evaluation dated September 15, 2005.

XU Generation Company LP, Docket No. 50-445, Comanche Peak Steam Electric Station, Unit No. 1, Somervell County, Texas

Date of amendment request: April 27, 2005 as supplemented by letter dated July 20, 2005.

Description of amendment: The amendments revise the Technical Specifications to add the topical report WCAP-13060-P-A to the list of NRC approved methodologies to be used at Comanche Peak Steam Electric Station, Unit 1.

Date of issuance: October 11, 2005.

Effective date: As of the date of issuance and shall be implemented immediately.

Amendment No.: 123.

Facility Operating License No. NPF-87: Amendment revised the Technical Specifications.

Public comments requested as to proposed no significant hazards consideration (NSHC): Yes.

The notice published on September 26, 2005 (70 FR 56191) provided an opportunity to submit comments on the Commission's proposed NSHC determination. No comments have been received. The notice also provided an opportunity to request a hearing within 60 days from the date of publication, but indicated that if the Commission makes a final NSHC determination, any such hearing would take place after issuance of the amendment.

The Commission's related evaluation of the amendment, finding of exigent circumstances, state consultation, and final NSHC determination are contained in a safety evaluation dated October 11, 2005.

Attorney for licensee: George L. Edgar, Esq., Morgan, Lewis and Bockius, 1800 M Street, NW., Washington, DC 20036.

NRC Section Chief: David Terao.

Dated at Rockville, Maryland, this 17th day of October, 2005.
For the Nuclear Regulatory Commission.
Ledyard B. Marsh,
Director, Division of Licensing Project Management, Office of Nuclear Reactor Regulation.

[FR Doc. 05-21180 Filed 10-24-05; 8:45 am]

BILLING CODE 7590-01-P